DEPARTMENT OF TRANSPORTATION

Federal Aviation Administration

[Docket No. FAA-2001-9854]

Notice of Alternative Policy Options for Managing Capacity at LaGuardia Airport and Proposed Extension of the Lottery Allocation; Notice of Comment Period Closing Date

AGENCY: Federal Aviation Administration (FAA), DOT.

ACTION: Notice of comment period closing date.

SUMMARY: This action establishes a new closing date for the comment period for Phase II of the notice “Alternative Policy Options for Managing Capacity at LaGuardia Airport and Proposed Extension of the Lottery Allocation.” The FAA indefinitely suspended the closing date for the comment period for Phase II after the terrorist attacks on September 11, 2001.

ADDRESSES: Comments should be mailed or delivered in duplicate to: U.S. Department of Transportation Dockets, Docket No. FAA-2001-9854, 400 Seventh Street, SW, Room Plaza 401, Washington, DC 20590. Comments may also be sent electronically to the following Internet address: DMS.dot.gov. Comments may be filed and/or examined in Room Plaza 401 between 10:00 a.m. and 5:00 p.m. weekdays except Federal holidays.

FOR FURTHER INFORMATION CONTACT: Jeffrey C. Wharff, Senior Economist, Office of Aviation Policy and Plans, 800 Independence Avenue, SW, Washington, DC 20591; telephone number 202-267-7035.

Background

On June 12, 2001, the FAA published a notice in the Federal Register seeking comments on a proposed extension of the slot exemption lottery allocation (Phase I) and several demand management options for LaGuardia Airport (Phase II) (66 FR 31731). Specifically, with respect to Phase II, the FAA sought comments on the feasibility and effectiveness of five different demand management options that could be used to replace the current temporary administrative limits on the number of aircraft operations at LaGuardia Airport (LGA). These five demand management options include both administrative and market-based approaches to allocate capacity. The details of each approach are described in the notice and can be accessed electronically through the following URL: http://api.hq.faa.gov/lga/index.htm.

Following the aircraft hijackings and terrorist attacks on September 11, 2001, the FAA temporarily ceased all non-military flights in the United States and required the adoption of certain security measures prior to the resumption of commercial air service. Several air carriers reduced flight schedules below previously planned levels throughout the national airport system, including LGA, in order to adjust to operational changes brought on by the new security requirements and reductions in passenger demand. Given these events, the FAA suspended, by notice issued on October 12, 2001, the closing date for the comment period on Phase II until further notice (66 FR 52170). The FAA indicated in that notice that at a later date it would publish a notice setting forth the new closing date and indicate whether the scope or nature of the demand management options under consideration have changed.

Current Action

Utilization rates of slot and slot exemptions at LGA are currently below last year's levels by approximately 14 percent. However, based on projected airline schedules for LGA, it appears that operations at LGA should return to their pre-September, 2001 levels by the end of the summer of 2002. Consequently, the FAA believes that it is appropriate to resume the discussion on long-term demand management alternatives for LGA.

Additionally, several recent actions may affect commenters' view of the identified demand management options, such as the attacks of September 11, the Port Authority of New York and New Jersey's rate increase for LGA, John F. Kennedy International Airports and Newark International Airport, and the shift in fleet mix resulting in an increase number of regional jet operations at LGA since September 11. The FAA invites comments on the long-term effects of these actions on the stated options. Therefore, the comment period for Phase II will close 90 days from the publication date of this notice.

Issued on March 18, 2002 in Washington, DC.
John M. Rodgers,
Director of the Office of Aviation Policy and Plans.

[FR Doc. 02-6973 Filed 3-21-02; 8:45 am]

BILLING CODE 4910-13-M